DEPARTMENT OF THE INTERIOR

National Park Service

[NPS-WASO-NAGPRA-10467; 2200-1100-665]

Notice of Inventory Completion: U.S. Department of Agriculture, Forest Service, Tongass National Forest, Craig Ranger District, Craig, AK

AGENCY: National Park Service, Interior.

ACTION: Notice.

SUMMARY: The U.S. Department of Agriculture (USDA), Forest Service, Tongass National Forest, has completed an inventory of human remains, in consultation with the appropriate Indian tribe, and has determined that there is a cultural affiliation between the human remains and a present-day Indian tribe. Representatives of any Indian tribe that believes itself to be culturally affiliated with the human remains may contact the USDA Tongass National Forest. Repatriation of the human remains to the Indian tribe stated below may occur if no additional claimants come forward.

DATES: Representatives of any Indian tribe that believes it has a cultural affiliation with the human remains should contact the USDA Tongass National Forest at the address below by August 2, 2012.

ADDRESSES: Forrest Cole, Supervisor, Tongass National Forest, 648 Mission Street Federal Building, Ketchikan, AK 99901-6591, telephone (907) 225-3101.

SUPPLEMENTARY INFORMATION: Notice is here given in accordance with the Native American Graves Protection and Repatriation Act (NAGPRA), 25 U.S.C. 3003, of the completion of an inventory of human remains in the possession of USDA Tongass National Forest, Craig Ranger District, Craig, AK. The human remains were removed from site DIX-00013 on Prince of Wales Island in southeast Alaska.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by USDA Forest Service professional staff in consultation with representatives of the Hydaburg Cooperative Association.

History and Description of the Remains

On an unknown date prior to 1987, human remains representing, at minimum, one individual were removed from site DIX-00013 on Prince of Wales, AK. In that year, a resident of Hydaburg on Prince of Wales Island, AK, came into possession the human remains, which consisted of a skull. The skull was later seized as a part of a criminal investigation on January 2, 1990. The resident said a friend had found it on the beach on Prince of Wales Island prior to 1987. That friend took the skull to Seattle, WA, for a time and eventually sent it to the resident in Hydaburg. The USDA Forest Service took possession of the skull, and it was stored at the Craig Ranger District where it remains today. No known individual was identified. No associated funerary objects are present.

The area of the discovery of the human remains was the aboriginal lands of the Hydaburg Cooperative Association, according to consultation with the tribe and “Haa Aani Tlingit and Haida Land Rights and Use” by Walter Goldschmidt and Theodore H. Haas, first issued in 1948, reprinted in 1988 by the Sealaska Heritage Association. During consultation with the Hydaburg Cooperative Association, it was discovered that a tribal elder knew the details of exactly where the skull was taken, an area clearly defined in Haa Aani and by the tribe as the aboriginal lands of the Hydaburg Cooperative Association.

Determinations Made by the USDA, Forest Service, Tongass National Forest

Officials of the USDA, Forest Service, Tongass National Forest, have determined that:

• Pursuant to 25 U.S.C. 3001 (9), the human remains described above represent the physical remains of one individual of Native American ancestry.

• Pursuant to 25 U.S.C. 3001 (2), there is a relationship of shared group identity that can be reasonably traced between the Native American human remains and the Hydaburg Cooperative Association.

Additional Requestors and Disposition

Representatives of any other Indian tribe that believes itself to be culturally affiliated with the human remains should contact Forrest Cole, Supervisor, Tongass National Forest, 648 Mission Street Federal Building, Ketchikan, AK 99901-6591, telephone (907) 225-3101 before August 2, 2012. Repatriation of the human remains to the Hydaburg Cooperative Association may proceed after that date if no additional claimants come forward.

The USDA Forest Service is responsible for notifying the Hydaburg Cooperative Association that this notice has been published.

Dated: May 31, 2012.
Sherry Hutt,
Manager, National NAGPRA Program.

[FR Doc. 2012-16208 Filed 7-2-12; 8:45 am]

BILLING CODE 4312-50-P